DEPARTMENT OF THE INTERIOR

Fish and Wildlife Service

[FWS-R8-ES-2010-N012; 81420-1113-0000-F3]

Proposed Programmatic Safe Harbor Agreement for the Sacramento River Conservation Area Forum in Shasta, Tehama, Butte, Glenn, Colusa, Yolo, and Sutter Counties, CA

AGENCY: Fish and Wildlife Service, Interior.

ACTION: Notice of Availability; receipt of application; reopening of comment period.

SUMMARY: We, the U.S. Fish and Wildlife Service (Service), recently announced our receipt of an application for an Enhancement of Survival Permit from the Sacramento River Conservation Area Forum (applicant) under the Endangered Species Act of 1973, as amended (Act). We now reopen the comment period on this application and the associated proposed safe harbor agreement. If you have previously submitted comments, please do not resubmit them because we have already incorporated them in the public record and will fully consider them in our final decision.

DATES: To ensure consideration, please send your written comments by April 8, 2010.

ADDRESSES: Send comments to Ms. Kathy Brown, via U.S. mail at U.S. Fish and Wildlife Service, Sacramento Fish and Wildlife Office, 2800 Cottage Way, W-2605, Sacramento, California 95825; or via facsimile to (916) 414-6713.

FOR FURTHER INFORMATION CONTACT: Ms. Kathy Brown, Sacramento Fish and Wildlife Office (see ADDRESSES); telephone: (916) 414-6600; facsimile: (916) 414-6713.

SUPPLEMENTARY INFORMATION: On December 21, 2009, we published a Federal Register notice (74 FR 67897) announcing our receipt of an application for an Enhancement of Survival Permit from the Sacramento River Conservation Area Forum under the Act (16 U.S.C 1531 et seq.). The permit application includes a proposed Safe Harbor Agreement (Agreement) between the Applicant and us for the Federally threatened valley elderberry longhorn beetle (Desmocerus californicus dimorphus) and the Federally threatened giant garter snake (Thamnophis gigas). We took comments on the available documents until January 20, 2010. In response to several requests from local government agencies, non-governmental organizations, and the general public we are reopening the comment period for an additional 30 days. We will consider these public comments in our final version of the document.

For information on how to review available documents and submit comments or questions, along with background information on the safe harbor agreement process, see our December 21, 2009, notice (74 FR 67897).

We provide this notice under section 10(c) of the Act and our National Environmental Policy Act implementing regulations (40 CFR 1506.6).

Dated: March 2, 2010.
Susan K. Moore,
Field Supervisor, Sacramento Fish and Wildlife Office, Sacramento, California.

[FR Doc. 2010-4886 Filed 3-8-10; 8:45 am]

BILLING CODE 4310-55-P